POSTAL SERVICE

Change in Classes of General Applicability for Competitive Products

AGENCY: Postal Service™.

ACTION: Notice of a change in classifications of general applicability for competitive products.

SUMMARY: This notice sets forth changes in classifications of general applicability for competitive products.

DATES: January 8, 2023.

FOR FURTHER INFORMATION CONTACT: Elizabeth Reed, 202-268-3179.

SUPPLEMENTARY INFORMATION: On June 22, 2022, pursuant to their authority under 39 U.S.C. 3632, the Governors of the Postal Service established classification changes for competitive products. The Governors' Decision and the record of proceedings in connection with such decision are reprinted below in accordance with section 3632(b)(2).

Sarah Sullivan,
Attorney, Ethics & Legal Compliance.

Decision of the Governors of the United States Postal Service on Changes in Classifications of General Applicability for Competitive Products (Governors' Decision No. 22-2)

June 22, 2022

Statement of Explanation and Justification

Pursuant to authority under section 3632 of title 39, as amended by the Postal Accountability and Enhancement Act of 2006 (“PAEA”), we establish changes in classifications of general applicability for certain of the Postal Service's competitive products. The changes are described generally below, with a detailed description of the changes in the attachment. The attachment includes the draft Mail Classification Schedule sections with classification changes in legislative format.

The classification changes established herein are designed to simplify and streamline the Postal Service's ground competitive package offerings under one product. Beginning in January 2023, the existing First-Class Package Service product will be expanded to packages up to 70 pounds to establish an enhanced ground package product. The Retail and Commercial price categories within First-Class Package Service will still be maintained, and the Retail price category will retain its seal against inspection. The enhanced First-Class Package Service product will also include up to $100 of insurance as well as cubic pricing tiers up to one cubic foot (1 cu. ft.).

In accordance with these enhancements and to avoid redundant offerings, the USPS Retail Ground product will be removed from the competitive product list and the Parcel Select Ground price category will no longer be available within the Parcel Select product. Both offerings would be subsumed under the newly-enhanced First-Class Package Service product. The Postal Service expects that its retail and commercial customers will all benefit from this simplified and streamlined ground package offering, and from the overall enhanced First-Class Package Service product.

Order

The changes in classes set forth herein shall be effective at 12:01 a.m. on January 8, 2023. We direct the Secretary to have this decision published in the Federal Register in accordance with 39 U.S.C. 3632(b)(2) and direct management to file with the Postal Regulatory Commission appropriate notice of these changes.

By The Governors:

/s/

Roman Martinez IV,

Chairman, Board of Governors

United States Postal Service Office of the Board of Governors

Certification of Governors' Vote on Governors' Decision No. 22-2

Consistent with 39 U.S.C. 3632(a), I hereby certify that, on June 22, 2022 the Governors voted on adopting Governors' Decision No. 22-2, and that a majority of the Governors then holding office voted in favor of that Decision.

Date: June 22, 2022

/s/

Michael J. Elston,

Secretary of the Board of Governors

Part B—Competitive Products

BILLING CODE 7710-12-P

[FR Doc. 2022-15490 Filed 7-19-22; 8:45 am]

BILLING CODE 7710-12-C